NATIONAL SCIENCE FOUNDATION

Notice of Intent To Seek Approval To Reinstate an Information Collection

AGENCY: National Science Foundation

ACTION: Submission for OMB Review; Comment Request Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 67 FR 69574 and no comments were received. NSF is forwarding the proposed submission to the Office of Management and Budget (OMB) for clearance simultaneously with the publication of this second notice.

DATES: Comments regarding these information collections are best assured of having their full effect if received by OMB within 30 days of publication in the Federal Register.

ADDRESSES: Written comments regarding (a) Whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW Room 10235, Washington DC 20503, and to Suzanne H. Plimpton, Reports Clearance Officer, National Science Foundation, 4201 Wilson Boulevard, Suite 295, Arlington, Virginia 22230 or send e-mail to splimpto@nsf.gov. Copies of the submission may be obtained by calling (703) 292-7556.

FOR FURTHER INFORMATION CONTACT: Suzanne H. Plimpton, NSF Reports Clearance Officer at (703) 292-7556 or send e-mail to splimpto@nsf.gov.

An agency may not conduct or sponsor a collection of information unless the collection of information displays a currently valid OMB control number and the agency informs potential that such persons are not required to respond to the collection of information unless it displays a currently valid OMB control number.

SUPPLEMENTARY INFORMATION:

Title of Collection: Evaluation of NSF Support for Undergraduate Research Opportunities (URO).

OMB Number: 3145-0121.

Type of Request: Intent to seek approval to reinstate an information collection for one year.

Abstract: “Evaluation of NSF Support for Undergraduate Research Opportunities (URO)”.

Proposed Project: The National Science Foundation (NSF) manages a number of programs that provide meaningful research experiences for undergraduate students. This suite of programs include: Research Experiences for Undergraduates (REU), both the Site and Supplement components; Research in Undergraduate Institutions (RUI); the undergraduate research components in several of NSF's large research centers programs, e.g., Engineering Research Centers (ERC) Programs, Science and Technology Centers (STCs); and several institution-wide human resources development programs in which undergraduate research experiences are often one component.

These Programs provide a wide range of U.S. undergraduate students with opportunities to conduct hands-on research under the mentorship of graduate students, postdoctoral fellows, and faculty in various types of higher education institutions, including small liberal arts colleges, minority-serving institutions, single-sex institutions, comprehensive universities, research universities, as well as non-profit institutions in which science or engineering research is conducted.

The purpose of the proposed evaluation is to examine the impact of undergraduate research experiences supported by NSF on the undergraduate student and faculty and other mentors who participate. Study questions include: Why do undergraduates choose to participate in research activities? What are the perceived advantages and disadvantages to faculty for mentoring undergraduates in research activities? What are the criteria for selecting students for research activities? What kinds of activities comprise undergraduate “research” experiences? How do undergraduate research experiences affect students' decisions about their academic and work future?

Use of the Information: The information will allow NSF to review its portfolio of programs in which a substantial number of undergraduates participate in research projects of faculty and other mentors to determine whether there needs to be any rebalancing. In addition, it will include an inventory of undergraduate research opportunities around the U.S. and contribute to the literature on best practices in undergraduate research experiences.

Estimate of Burden: Public reporting burden for this collection of information is estimated to average 20 minutes per response.

Respondents: Individuals.

Estimated Number of Respondents: 9,333.

Estimated Total Annual Burden on Respondents: 4,328 hours.

Frequency of Responses: One time.

Dated: February 12, 2003.
Suzanne H. Plimpton,
Reports Clearance Officer, National Science Foundation.

[FR Doc. 03-3825 Filed 2-14-03; 8:45 am]

BILLING CODE 7555-01-M